DEPARTMENT OF HEALTH AND HUMAN SERVICES

National Institutes of Health

Center for Scientific Review; Amended Notice of Meeting

Notice is hereby given of a change in the meeting of the Center for Scientific Review Special Emphasis Panel, October 18, 2013, 02:00 p.m. to October 18, 2013, 05:00 p.m., National Institutes of Health, 6701 Rockledge Drive, Bethesda, MD 20892, which was published in the Federal Register on September 24, 2013, 78 FR 185 Pgs. 58547-58548.

The meeting will start December 18, 2013 at 2:00 p.m. and end December 18, 2013 at 5:00 p.m. The meeting location remains the same. The meeting is closed to the public.

Dated: October 31, 2013.
Carolyn A. Baum,
Program Analyst, Office of Federal Advisory Committee Policy.

[FR Doc. 2013-26528 Filed 11-5-13; 8:45 am]

BILLING CODE 4140-01-P